DEPARTMENT OF COMMERCE

International Trade Administration

[C-570-113]

Certain Collated Steel Staples From the People's Republic of China: Preliminary Results and Partial Rescission of the Countervailing Duty Administrative Review; 2022

AGENCY: Enforcement and Compliance, International Trade Administration, Department of Commerce.

SUMMARY: The U.S. Department of Commerce (Commerce) preliminarily determines that countervailable subsidies were provided to Tianjin Hweschun Fasteners Manufacturing Co., Ltd. (Tianjin Hweschun) a producer and exporter of certain collated steel staples (collated staples) from the People's Republic of China (China) during the period of review (POR) from January 1, 2022, through December 31, 2022. Additionally, Commerce is rescinding the review with respect to 122 companies. Interested parties are invited to comment on these preliminary results.

DATES: Applicable August 12, 2024.

FOR FURTHER INFORMATION CONTACT: Bob Palmer and Brandon James, AD/CVD Operations, Office VIII, Enforcement and Compliance, International Trade Administration, U.S. Department of Commerce, 1401 Constitution Avenue NW, Washington, DC 20230; telephone: (202) 482-9068 and (202) 482-7472, respectively.

SUPPLEMENTARY INFORMATION:

Background

On July 20, 2020, Commerce published the countervailing duty (CVD) order on collated staples from China.¹ On September 11, 2023, Commerce published in the Federal Register a notice of initiation of an administrative review of the Order on 123 producers/exporters.² On March 6, 2024, Commerce postponed the preliminary results until July 30, 2024, in accordance with section 751(a)(3)(A) of Tariff Act of 1930, as amended (the Act), and 19 CFR 351.213(h)(2).³ On July 22, 2024, Commerce tolled certain deadlines in this administrative proceeding by seven days.⁴ The current deadline for the preliminary results is now August 6, 2024.

¹ See Certain Collated Steel Staples from the People's Republic of China: Countervailing Duty Order, 85 FR 43813 (July 20, 2020) (Order).

² See Initiation of Antidumping and Countervailing Duty Administrative Reviews, 88 FR 62322 (September 11, 2023) (Initiation Notice).

³ See Memorandum, “Extension of Deadline for Preliminary Results of Countervailing Duty Administrative Review; 2022,” dated March 6, 2024.

⁴ See Memorandum, “Tolling of Deadlines for Antidumping and Countervailing Duty Proceedings,” dated July 22, 2024.

For a description of the events that occurred since the initiation of this review, see the Preliminary Decision Memorandum.⁵ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results and Partial Rescission of the Countervailing Duty Administrative Review of Certain Collated Steel Staples from the People's Republic of China; 2022,” dated concurrently with, and hereby adopted by, this notice (Preliminary Decision Memorandum).

Scope of the Order

The product covered by the Order is collated staples from China. For a complete description of the scope of the Order, see the Preliminary Decision Memorandum.

Rescission of Administrative Review, In Part

On September 22, 2023, Kyocera Senco Industrial Tools, Inc. (the petitioner) withdrew its request for review with respect to 118 companies.⁶ On October 4, 2023, Vina Hardwares Joint Stock Company withdrew its request for review.⁷ On December 11, 2023, Shanghai Yueda Nail Co., Ltd. and Tianjin Hweschun withdrew their requests for review.⁸ On December 11, 2023, Black & Decker (US) Inc. withdrew its request for review for products manufactured by YF Technology Corporation (Thailand) Ltd., and/or exported by YF Technology Corporation Limited.⁹ The only company requested for review and for which not all review requests have been withdrawn is Tianjin Hweschun.¹⁰ Because we received timely withdrawals of request for review for these 122 companies, pursuant to 19 CFR 351.213(d)(1), we are rescinding the administrative review of these companies. We have included a list of these 122 companies in Appendix II of this notice.

⁶ See Petitioner's Letter, “Withdrawal of Request for Administrative Review,” dated September 22, 2023 (Petitioner's Withdrawal Request).

⁷ See Vina Hardwares' Letter, “Withdrawal of Request for Administrative Review,” dated October 4, 2023.

⁸ See Shanghai Yueda's Letter, “Withdrawal of Request for Administrative Review,” dated December 11, 2023; see also Tianjin Hweschun's Letter, “Withdrawal of Request for Administrative Review,” December 11, 2023.

⁹ See Black and Decker's Letter, “Withdrawal of Request for Administrative Review,” December 11, 2023.

¹⁰ See Petitioner's Letter, “Request for Administrative Review,” dated July 31, 2023; see also Petitioner's Withdrawal Request.

Methodology

Commerce is conducting this review in accordance with section 751(a)(1)(A) of the Act. For each of the subsidy programs found countervailable, we preliminarily determine that there is a subsidy, i.e., a financial contribution by an “authority” that confers a benefit to the recipient, and that the subsidy is specific.¹¹ For a full description of the methodology underlying our preliminary conclusions, including our reliance, in part, on adverse facts available pursuant to sections 776(a) and (b) of the Act, see the Preliminary Decision Memorandum.¹²

¹¹ See sections 771(5)(B) and (D) of the Act regarding financial contribution; section 771(5)(E) of the Act regarding benefit; and section 771(5A) of the Act regarding specificity.

¹² See Preliminary Decision Memorandum at 5-27.

Preliminary Results of the Review

Commerce preliminary determines that the following net countervailable subsidy rates exist for the period of January 1, 2022, through December 31, 2022:

Company | Subsidy rate (percent ad valorem)
Tianjin Hweschun Fasteners Manufacturing Co., Ltd. | 70.10

Disclosure and Public Comment

Commerce intends to disclose its calculations performed to interested parties for these preliminary results within five days of any public announcement or, if there is no public announcement, within five days of the date of publication of this notice in accordance with 19 CFR 351.224(b). Commerce also intends to issue a post-preliminary memorandum for certain programs after the publication of this notice.¹³

¹³ Id. for further information.

Case briefs or other written comments may be submitted to the Assistant Secretary for Enforcement and Compliance.¹⁴ A timeline for the submission of case briefs and written comments will be provided to interested parties at a later date. Rebuttal briefs, limited to issues raised in the case briefs, may be filed not later than five days after the date for filing case briefs.¹⁵ Interested parties who submit case briefs or rebuttal briefs in this proceeding must submit: (1) a table of contents listing each issue; and (2) a table of authorities.¹⁶

¹⁴ See 19 CFR 351.309(c)(1)(ii); see also 19 CFR 351.303 for general filing requirements.

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule, 88 FR at 67077.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results

Unless the deadline is extended, we intend to issue the final results of this administrative review, which will include the results of our analysis of the issues raised in the case briefs, within 120 days of publication of these preliminary results in the Federal Register, pursuant to section 751(a)(3)(A) of the Act and 19 CFR 351.213(h).

Assessment Rates

Upon completion of the administrative review, consistent with section 751(a)(1) of the Act and 19 CFR 351.212(b)(2), Commerce shall determine, and CBP shall assess, countervailing duties on all appropriate entries covered by this review. For the companies for which this review is rescinded, Commerce will instruct CBP to assess countervailing duties on all appropriate entries at a rate equal to the cash deposit of estimated countervailing duties required at the time of entry, or withdrawal from warehouse, for consumption, during the period January 1, 2022, through December 31, 2022, in accordance with 19 CFR 351.212(c)(l)(i). For the companies for which this review is rescinded, we intend to issue appropriate assessment instructions to CBP no earlier than 35 days after the date of publication of this notice in the Federal Register.

For Tianjin Hweschun, Commerce will instruct CBP to assess countervailing duties on all appropriate entries at the subsidy rates calculated in the final results of this review. For Tianjin Hweschun, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for Tianjin Hweschun listed above on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act, and 19 CFR 351.221(b)(4).

Dated: August 6, 2024.
Scot Fullerton,
Acting Deputy Assistant Secretary for Antidumping and Countervailing Duty Operations.

Appendix I

List of Topics Discussed in the Preliminary Decision Memorandum

I. Summary

II. Background

III. Scope of the Order

IV. Diversification of China's Economy

V. Use of Facts Otherwise Available and Application of Adverse Inferences

VI. Subsidies Valuation

VII. Inputs and Electricity Benchmarks

VIII. Analysis of Programs

IX. Recommendation

Appendix II

List of Companies Rescinded From Review

1. Anhui Z&A Import And Export Co., Ltd.

2. Anping Haotie Metal Technology Co.

3. Changzhou Kya Trading Co., Ltd.

4. China Wind International Ltd.

5. Dezhou Hualude Hardware Products Co., Ltd.

6. Dt China (Shanghai) Ltd., Ningbo Branch

7. Eastrong International

8. Ejen Brothers Limited

9. eTeklon Co., Ltd.

10. Fastnail Products Limited

11. Five Star International Import and Export Co., Limited

12. Foshan Chan Seng Import and Export Co., Ltd.

13. Foshan Hosontool Development Hardware Co., Ltd.

14. Fourever International Limited

15. Guangdong Meite Mechanical Co., Ltd.

16. Guangdong Willing Technology

17. Guangzhou Nova Investment Development Co., Ltd.

18. H&B Promotional Limited

19. Hangzhou Great Import & Export Co., Ltd.

20. Hangzhou G-Wire Technology Co., Ltd.

21. Hangzhou Light Industrial Products, Arts & Crafts, Textiles Import & Export Co., Ltd.

22. Hangzhou Strong Lion New Material Co., Ltd.

23. Hangzhou Taiming Import & Export Co.

24. Hebei Cangzhou New Century Foreign Trade Co., Ltd.

25. Hebei Jinshi Industrial Metal Co., Ltd.

26. Hebei Machinery Import and Export Co., Ltd.

27. Hebei Minmetals Co., Ltd.

28. Hengtuo Metal Products Co., Ltd.

29. Hk A J Arts And Crafts Co., Ltd.

30. Hk Quanyi Coil Spring Metals Product Limited

31. Hk Ryson Industrial Development Limited

32. Hongkong Greatstar International Co.

33. HP Singapore (Private) Ltd.

34. Huanghua Baizhou Trading Co., Ltd.

35. Jiangmen Guanqiang Hardware Plastic Products Co., Ltd.

36. Jiangmen Huiying Import & Export Co.

37. Jiangmen Rui Xing Yuan Import and Export Co., Ltd.

38. Jiaxing Brothers Hardware Co., Ltd.

39. Jiaxing Success Import & Export Co.

40. Jinhua Great Tools Co., Ltd.

41. Jinhua Qual Max Trading Co., Ltd.

42. Kinglong Manufacturing Co., Ltd.

43. Linyi Flyingarrow Imp. & Exp. Co. Ltd.

44. Match Industry Limited.

45. Max Co., Ltd.

46. Milan Pacific International Limited

47. Mingguang Ruifeng Hardware Products Co., Ltd.

48. Nanjing Hongde New Material Co., Ltd.

49. Nanjing Justar Material Co., Ltd.

50. Ningbo (Yinzhou) Yongjia Electrical Tools Co., Ltd.

51. Ningbo Alldo Stationery Co., Ltd.

52. Ningbo Guangbo Import & Export Co., Ltd.

53. Ningbo Hoz Fasteners Co. Limited

54. Ningbo Huayi Import & Export Co., Ltd.

55. Ningbo Jieyou Trading Co., Ltd.

56. Ningbo Mascube Imp. & Exp. Corp.

57. Ningbo Mate Import & Export Co., Ltd.

58. Ningbo S-Chande Import & Export Co., Ltd.

59. Ningbo Sunlit International Co., Ltd.

60. Ningbo Yuanyu Imp. & Exp. Co., Ltd.

61. Ninghai Huihui Stationery Co., Ltd.

62. Oli-Fast Fasteners (Tianjin) Co., Ltd.

63. Protech Industry Limited

64. Qingdao Jiawei Industry Co., Limited

65. Qingdao Top Metal Industrial Co., Ltd.

66. Qingdao Top Steel Industrial Co., Ltd.

67. Rayson Electrical Mfg., Ltd.

68. Rebon Building Material Co., Limited

69. Shanghai Genmes Office Products Co., Ltd.

70. Shanghai Lansi Trading Co., Ltd.

71. Shanghai Yueda Nail Co., Ltd.

72. Shanghai Yinwo Technologies Development Co., Ltd.

73. Shanghai Zehong International

74. Shanxi Pioneer Hardware Industrial

75. Shaoxing Best Nail Industrial Co., Ltd.

76. Shaoxing Feida Nail Industry Co., Ltd.

77. Shaoxing Huasheng Stationery Manufacturing Co., Ltd.

78. Shaoxing Jingke Hardware Co., Ltd.

79. Shaoxing Mingxing Nail Co., Ltd.

80. Shaoxing Qianjiang Pin Industry

81. Shaoxing Shunxing Metal Producting Co., Ltd.

82. Shaoxing Xinyi Hardware & Tools Co., Ltd.

83. Shaoxing Yiyou Stationery Co., Ltd.

84. Shenzhen Hongwencheng Technology

85. Shenzhen Jinsunway Mould Co., Ltd.

86. Shijiazhuang Shuangming Trade Co., Ltd.

87. Shouguang Hongsheng Import and Export Co., Ltd.

88. Shun Far Enterprise Co., Ltd.

89. Suntec Industries Co., Ltd.

90. Suqian Real Faith International Trade Co., Ltd.

91. Taiun Co., Ltd.

92. Taizhou Dajiang Ind. Co., Ltd.

93. Team One (Shanghai) Co., Ltd.

94. Team Work Enterprises Ltd.

95. Thakral Corporation Hk Limited

96. Tianjin Angetai Import And Export

97. Tianjin Bluekin Industries Co., Ltd.

98. Tianjin D&C Technology Development

99. Tianjin High Wing International For

100. Tianjin Huayuan Metal Wire Products

101. Tianjin Huixinshangmao Co., Ltd.

102. Tianjin Jin Xin Sheng Long Metal Products Co., Ltd.

103. Tianjin Jinyifeng Hardware Co., Ltd.

104. Tsi Manufacturing LLC

105. Tung Yung International Limited

106. Um Industry Co., Ltd.

107. Unicorn (Tianjin) Fasteners Co., Ltd.

108. Vina Hardwares Joint Stock Company

109. Weifang Ye Liyuan Trading Co., Ltd.

110. Wenzhou Longhua Daily Electron Co. Ltd.

111. Wire Products Manufacturing Co., Ltd.

112. Xiamen Wanguoxing Trade Co., Ltd.

113. Yangjiang Meijia Economic & Trade Co., Ltd.

114. Yantai Doowon Metal Co., Ltd.

115. YF Technology Corporation (Thailand) Ltd.

116. YF Technology Corporation Limited

117. Yuchen Imp. and Exp. Co, Ltd.

118. Yueqing Yuena Electric Science and Technology Co., Ltd.

119. Yunfu Wintop Stone Co., Ltd.

120. Zhejiang Fairtrade ECommerce Co., Ltd.

121. Zhejiang Jiahe Bamboo Technology Co.

122. Zhejiang KYT Technology Co., Ltd.

[FR Doc. 2024-17910 Filed 8-9-24; 8:45 am]

BILLING CODE 3510-DS-P